DEPARTMENT OF COMMERCE

National Institute of Standards and Technology

Notice of Prospective Grant of Exclusive Patent License

AGENCY: National Institute of Standards and Technology, Commerce.

SUMMARY: This is a notice in accordance with 35 U.S.C. 209(c)(1) and 37 CFR 404.7(a)(1)(i) that the National Institute of Standards and Technology (“NIST”), U.S. Department of Commerce, is contemplating the grant of an exclusive license in the United States of America, its territories, possessions and commonwealths, to NIST's interest in the invention embodied in U.S. Patent No. 5,244,634, titled “System For Detecting Transition and Rare Earth Elements in a Matrix,” NIST Docket No. 92-003D to Metara, Inc., having a place of business at 1225 E. Arques Avenue, Sunnyvale, CA 94085. The grant of the license would be in the following fields of use: Semiconductor, Environmental, Pharmaceutical, Chemical and other related commercial applications.

FOR FURTHER INFORMATION CONTACT: J. Terry Lynch, National Institute of Standards and Technology, Office of Technology Partnerships, 100 Bureau Drive, Stop 2200, Gaithersburg, MD 20899, Phone 301-975-2691.

SUPPLEMENTARY INFORMATION: The prospective exclusive license will be royalty bearing and will comply with the terms and conditions of 35 U.S.C. 209 and 37 CFR 404.7. The prospective exclusive license may be granted unless, within thirty days from the date of this published Notice, NIST receives written evidence and argument which establish that the grant of the license would not be consistent with the requirements of 35 U.S.C. 209 and 37 CFR 404.7. The availability of the invention for licensing was published in the Federal Register on November 23, 1992.

U.S. Patent No. 5,244,634 is jointly owned by the U.S. government, as represented by the Secretary of Commerce, and Dionex Corporation. The invention accurately detects transition and rare earth elements in environmental materials and natural waters, industrial waste, biological fluids, and other samples. The system is sensitive enough to detect these elements below the parts-per-billion level. Samples may contain 1,000 to 1 million times more alkali or alkaline earth metals than transition and rare earth elements. Ion-exchange detection methods are not specific enough to detect ions of interest in such samples.

Dated: June 3, 2002.
Karen H. Brown,
Deputy Director.

[FR Doc. 02-14613 Filed 6-10-02; 8:45 am]

BILLING CODE 3510-13-P